NATIONAL AERONAUTICS AND SPACE ADMINISTRATION

[Notice 03-024]

NASA Advisory Council, Space Science Advisory Committee; Meeting

AGENCY: National Aeronautics and Space Administration (NASA).

ACTION: Notice of meeting.

SUMMARY: In accordance with the Federal Advisory Committee Act, Pub. L. 92-463, as amended, the National Aeronautics and Space Administration announces a forthcoming meeting of the NASA Advisory Council (NAC), Space Science Advisory Committee (SScAC).

DATES: Monday, March 3, 2003, 8:30 a.m. to 5:30 p.m., Tuesday, March 4, 2003, 8:30 a.m. to 5:30 p.m., and Wednesday, March 5, 2003, 8:30 a.m. to Noon.

ADDRESSES: Jet Propulsion Laboratory, Building 180, Room 101, 4800 Oak Grove Drive, Pasadena, California 91109.

FOR FURTHER INFORMATION CONTACT: Ms. Marian R. Norris, Code SB, National Aeronautics and Space Administration, Washington, DC 20546, (202) 358-4452.

SUPPLEMENTARY INFORMATION: The meeting will be open to the public up to the capacity of the room. The agenda for the meeting includes the following topics:

—Associate Administrator's Report

—Division and Program Directors' Reports

—Launch Services Outlook

—Subcommittee Chairs' Reports

—Space Science Enterprise Strategy 2003

—Education and Public Outreach Task Force Report

—Mars Program Office Report

Due to increased security measures at the NASA Jet Propulsion Laboratory (JPL), interested members of the public including the news media must contact Joe Aguirre, (818) 354-0890, or Cecil Brower, (818) 354-6974, no later than Friday, February 24, 2003, by 4 p.m. PDT to make arrangements for badging, parking, and being escorted while at JPL. Access to JPL will be limited to those who show proper photo identification and who have made prior arrangements to attend.

It is imperative that the meeting be held on these dates to accommodate the scheduling priorities of the key participants. Any member of the public may file a written statement with the Committee; such statements should be provided to the contact above no later than five working days before the meeting. Visitors to the meeting will be requested to sign a visitor's register.

June W. Edwards,
Advisory Committee Management Officer, National Aeronautics and Space Administration.

[FR Doc. 03-4437 Filed 2-25-03; 8:45 am]

BILLING CODE 7510-01-P